ENVIRONMENTAL PROTECTION AGENCY

[ER-FRL-9036-4]

Environmental Impact Statements; Notice of Availability

Responsible Agency: Office of Federal Activities, General Information (202) 564-7146 or http://www2.epa.gov/ nepa/.

Weekly receipt of Environmental Impact Statements (EISs)

Filed 11/20/2017 Through 11/24/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170234, Final, USMC, DC, Multiple Projects in Support of Marine Barracks Washington, DC, Review Period Ends: 01/02/2018, Contact: Ms. Julie Darsie (202) 685-1754.

EIS No. 20170235, Final Supplement, FTA, CA, Westside Purple Line Extension Section 4(f) Evaluation, Review Period Ends: 01/02/2018, Contact: Mary Nguyen 2132023960.

Dated: November 28, 2017.
Kelly Knight,
Director, NEPA Compliance Division, Office of Federal Activities.

[FR Doc. 2017-25907 Filed 11-30-17; 8:45 am]

BILLING CODE 6560-50-P